FEDERAL COMMUNICATIONS COMMISSION

[Report No. 2545]

Petitions for Reconsideration of Action in Rulemaking Proceeding

April 23, 2002.

Petitions for Reconsideration have been filed in the Commission's rulemaking proceeding listed in this Public Notice and published to 47 CFR 1.429(e). The full text of these document are available for viewing and copying in Room CY-A257, 445 12th Street, SW., Washington, DC or may be purchased from the Commission's copy contractor, Qualex International (202) 863-2893. Oppositions to these petitions must be filed by May 15, 2002. See Section 1.4(b)(1) of the Commission's rules (47 CFR 1.4(b)(1)). Replies to an opposition must be filed within 10 days after the time for filing oppositions has expired.

Subject: Amendment of Part 67 of the commission's rules and establishment of a joint board (CC Docket No. 80-286).

Amendment to uniform system of accounts and cost allocations rules for interconnection and infrastructure sharing (CC Docket No. 97-212).

In the Matter of 2000 Biennial Regulatory Review—Comprehensive Review of the Accounting Requirements and ARMIS Reporting Requirements for Incumbent Local Exchange Carriers: Phase 2 and Phase 3 (CC Docket No. 00-199).

Number of Petitions Filed: 2.

Marlene H. Dortch,
Secretary.

[FR Doc. 02-10594 Filed 4-29-02; 8:45 am]

BILLING CODE 6712-01-M